DEPARTMENT OF DEFENSE

Department of the Army; Army Corps of Engineers

Notice of Intent To Prepare an Environmental Impact Statement/Environmental Impact Report for the West Sacramento Project, California, General Reevaluation Report

AGENCY: Department of the Army, U.S. Army Corps of Engineers, DoD.

ACTION: Notice of intent.

SUMMARY: The action being taken is the preparation of an environmental impact statement/environmental impact report (EIS/EIR) for the West Sacramento Project, California, General Reevaluation Report (GRR). The GRR will re-evaluate the currently authorized plan as well as develop and evaluate opportunities to reduce flood risk, increase recreation, and restore the ecosystem along the Sacramento River in and around the City of West Sacramento.

DATES: A public scoping meeting will be held on July 21, 2009, from 3 p.m. to 5 p.m. and 6:30 p.m. to 8 p.m. at the West Sacramento City Hall, 1110 West Capitol Avenue, West Sacramento, CA. Send written comments by August 21, 2009 to the address below.

ADDRESSES: Send written comments and suggestions concerning this study to Mr. John Suazo, U.S. Army Corps of Engineers, Sacramento District, Attn: Planning Division (CESPK-PD-R), 1325 J Street, Sacramento, CA 95814. Requests to be placed on the mailing list should also be sent to this address.

FOR FURTHER INFORMATION CONTACT: Questions about the proposed action and EIS/EIR should be addressed to John Suazo at (916) 557-6719, e-mail: john.suazo@usace.army.mil or by mail to (see ADDRESSES).

SUPPLEMENTARY INFORMATION: 1. Proposed Action. The U.S. Army Corps of Engineers is preparing an EIS/EIR to analyze the impacts of a range of alternatives that would lessen the risk of flooding in and around the City of West Sacramento.

2. Alternatives. The EIS/EIR will address an array of flood risk management improvement alternatives along the entire West Sacramento basin. Alternatives analyzed during the investigation will include a combination of one or more flood protection measures. Potential measures include seepage berms, stability berms, setback levees, levee raises, and seepage cutoff walls.

3. Scoping Process. a. The Corps has initiated a process to involve concerned individuals, and local, State, and Federal agencies. A public scoping meeting will be held on July 21, 2009 to present information to the public and to receive comments from the public. The Draft EIS/EIR will be completed in conjunction with additional public meetings.

b. Significant issues to be analyzed in depth in the EIS include effects on hydraulic, wetlands and other waters of the U.S., vegetation and wildlife resources, special-status species, cultural resources, land use, fisheries, water quality, air quality, transportation, and socioeconomics; and cumulative effects of related projects in the study area.

c. The Corps is consulting with the State Historic Preservation Officer to comply with the National Historic Preservation Act, and the National Marine Fisheries Service and the U.S. Fish and Wildlife Service to comply with the Endangered Species Act.

d. A 45-day public review period will be provided for individuals and agencies to review and comment on the draft EIS/EIR. All interested parties are encouraged to respond to this notice and provide a current address if they wish to be notified of the draft EIS circulation.

4. Availability. The draft EIS/EIR is scheduled to be available for public review and comment in 2012.

Dated: July 2, 2009.
Thomas C. Chapman,
COL, EN, Commanding.

[FR Doc. E9-16610 Filed 7-13-09; 8:45 am]

BILLING CODE 3720-58-P